INTERNATIONAL TRADE COMMISSION

[Investigation No. 337-TA-888]

Certain Silicon Microphone Packages and Products Containing Same: Commission Determination To Grant the Joint Motion To Terminate the Investigation on the Basis of Settlement; Termination of Investigation

AGENCY: U.S. International Trade Commission.

ACTION: Notice.

SUMMARY: Notice is hereby given that the U.S. International Trade Commission has determined to grant the joint motion to terminate the above-referenced investigation based upon settlement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 26, 2013, based on a complaint filed by Knowles Electronics, LLC, of Itasca, Illinois. 78 Fed. Reg. 45272 (July 26, 2013). The notice of investigation named GoerTek, Inc. of Weifang, China and GoerTek Electronics, Inc. of Sunnyvale, California as respondents. The Commission's Office of Unfair Import Investigations is not a party to this investigation. The complaint alleged violations of section 337 in the importation into the United States, the sale for importation, and the sale within the United States after importation of silicon microphone packages and products containing the same, by reason of infringement of certain claims of U.S. Patent Nos. 7,439,616 (“the `616 patent”); 8,018,049 (“the `049 patent”); and 8,121,331. Subsequently, the investigation was terminated as to claims 13 and 14 of the `616 patent and claim 24 of the `049 patent based on the withdrawal of complainant's allegations as to those claims. See Notice (May 16, 2014) (determining not to review Order No. 37 issued on April 17, 2014).

The evidentiary hearing in this investigation was held from May 6 through May 14, 2014. On August 29, 2014, the ALJ issued the final initial determination (“ID”) finding a violation of section 337. Respondents and complainant (conditionally) petitioned for review of various portions of the final ID. The Commission determined to review the final ID in part, and issued a Notice dated November 6, 2014, 79 FR 67446-48 (Nov. 13, 2014), in which the Commission specified the issues under review and the questions pertaining to such issues. The Commission received timely opening and reply briefs regarding the issues under review, as well as the issues of remedy, the public interest, and bonding, from both parties to the investigation.

On February 11, 2015, the parties filed a “Joint Motion To Extend the Target Date by 10 Days” representing that an extension was necessary because the parties were “making progress on an agreement which, if signed, would resolve their dispute and permit termination of this investigation pursuant to 19 CFR 210.21.” Motion To Extend at 1. The Commission granted the joint motion extending the target date for completion of this investigation to March 16, 2015. See Commission Notice dated February 27, 2015.

On February 25, 2015, the parties filed a “Joint Motion To Terminate Investigation No. 337-TA-888 on the Basis of Settlement.”

Having examined the joint motion, the settlement agreement, and the record of this investigation, the Commission has determined to grant the joint motion to terminate the investigation. The Commission finds that this termination will not prejudice the public interest.

The Commission has therefore terminated this investigation. The authority for the Commission's determination is contained in section 337 of the Tariff Act of 1930, as amended (19 U.S.C. 1337), and Part 210 of the Commission's Rules of Practice and Procedure (19 CFR part 210).

By order of the Commission.
Issued: March 16, 2015.
Lisa R. Barton,
Secretary to the Commission.

[FR Doc. 2015-06381 Filed 3-19-15; 8:45 am]

BILLING CODE 7020-02-P